DEPARTMENT OF HEALTH AND HUMAN SERVICES

Centers for Disease Control and Prevention

Disease, Disability, and Injury Prevention and Control Special Emphasis Panel (SEP): Initial Review

The meeting announced below concerns Strategies to Improve Vaccination Coverage of Children in Child Care Centers (CCCs) and Preschools, Funding Opportunity Announcement (FOA) IP11-006; Strategies to Increase Health Care Providers Use of Population-Based Immunization Information Systems, FOA IP11-008; and Effectiveness in an Intervention to Promote a Targeted Vaccination program in the Obstetrician-Gynecologist Setting, FOA IP11-009, initial review.

In accordance with Section 10(a)(2) of the Federal Advisory Committee Act (Pub. L. 92-463), the Centers for Disease Control and Prevention (CDC) announces the aforementioned meeting:

Time and Date:

8 a.m.-5 p.m., June 13, 2011 (Closed).

Place: Sheraton Gateway Hotel Atlanta Airport, 1900 Sullivan Road, Atlanta, Georgia 30337, Telephone: (770) 997-1100.

Status: The meeting will be closed to the public in accordance with provisions set forth in Section 552b(c) (4) and (6), Title 5 U.S.C., and the Determination of the Director, Management Analysis and Services Office, CDC, pursuant to Public Law 92-463.

Matters To Be Discussed: The meeting will include the initial review, discussion, and evaluation of applications received in response to “Strategies to Improve Vaccination Coverage of Children in Child Care Centers (CCCs) and Preschools, FOA IP11-006; Strategies to Increase Health Care providers Use of Population-Based Immunization Information Systems, FOA IP11-008; Effectiveness in an Intervention to Promote a Targeted Vaccination Program in the Obstetrician-Gynecologist Setting; FOA IP11-009, initial review.”

Contact Person for More Information: Gregory Anderson, M.S., M.P.H., Scientific Review Officer, CDC, 1600 Clifton Road, NE., Mailstop E00, Atlanta, Georgia 30333, Telephone: (404) 498-2293. The Director, Management Analysis and Services Office, has been delegated the authority to sign Federal Register notices pertaining to announcements of meetings and other committee management activities, for both the Centers for Disease Control and Prevention, and the Agency for Toxic Substances and Disease Registry.

Dated: April 21, 2011.
Elaine L. Baker,
Director, Management Analysis and Services Office, Centers for Disease Control and Prevention.

[FR Doc. 2011-10390 Filed 4-28-11; 8:45 am]

BILLING CODE 4163-18-P